NUCLEAR REGULATORY COMMISSION

Sunshine Federal Register Notice

DATE: Weeks of May 9, 16, 23, 30, June 6, 13, 2005.

PLACE: Commissioners' Conference Room, 11155 Rockville Pike, Rockville, Maryland.

STATUS: Public and Closed.

MATTERS TO BE CONSIDERED:

Week of May 9, 2005

Wednesday, May 11, 2005

10:30 a.m. All Employees Meeting (Public Meeting)

1:30 p.m. All Employees Meeting (Public Meeting)

Thursday, May 12, 2005

10:45 a.m. Affirmation Session (Public Meeting)

a. Final Rule to Amend 10 CFR Part 110, “Export and Import of Nuclear Equipment and Materials; Security Policies”

Week of May 16, 2005—Tentative

There are no meetings scheduled for the Week of May 16, 2005.

Week of May 23, 2005—Tentative

Monday, May 23, 2005

10 a.m. Discussion of Intergovernmental Issues (Closed—Ex. 9)

1:30 p.m. Discussion of Security Issues (Closed—Ex. 1)

Wednesday, May 25, 2005

9:30 a.m. Briefing on Results of the Agency Action Review Meeting (Public Meeting) (Contact: Lois James, 301-415-1112)

This meeting will be Webcast live at the Web address— http://www.nrc.gov.

1:30 p.m. Briefing on Threat Environment Assessment (Closed—Ex. 1)

Week of May 30, 2005—Tentative

Wednesday, June 1, 2005

9:30 a.m. Discussion of Security Issues (Closed—Ex. 1)

Thursday, June 2, 2005

9:30 a.m. Briefing on Office of International Programs (OIP) Programs, Performance, and Plans (Public Meeting) (Contact: Margie Doane, 301-415-2344)

This meeting will be Webcast live at the Web address— http://www.nrc.gov.

2:30 p.m. Discussion of Management Issues (Closed—Ex. 2 & 9) Note: new time, originally scheduled for 1:30 p.m.

Week of June 6, 2005—Tentative

There are no meetings scheduled for the Week of June 6, 2005.

Week of June 3, 2005—Tentative

There are no meetings scheduled for the Week of June 13, 2005.

The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 4, 2005.
Dave Gamberoni,
Office of the Secretary.

[FR Doc. 05-9263 Filed 5-5-05; 9:15 am]

BILLING CODE 7590-01-M